DEPARTMENT OF LABOR

Employment and Training Administration

Investigations Regarding Certifications Of Eligibility To Apply For Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 16, 2004.

Interested persons are invited to submit written comments regarding the subject matter of the investigations to the Director, Division of Trade Adjustment Assistance, at the address shown below, not later than April 16, 2004.

The petitions filed in this case are available for inspection at the Office of the Director, Division of Trade Adjustment Assistance, Employment and Training Administration, U.S. Department of Labor, Room C-5311, 200 Constitution Avenue, NW., Washington, DC 20210.

Signed at Washington, DC this 30th day of March 2004.
Timothy Sullivan,
Director, Division of Trade Adjustment Assistance.

Appendix
[Petitions instituted between 03/15/2004 and 03/19/2004]
TA-W | Subject firm (petitioners) | Location | Date of institution | Date of petition
54,498 | North Manchester Foundry (Comp) | N. Manchester, IA | 03/15/2004 | 02/23/2004
54,499 | Federal Mogul Ignition Co. (Comp) | Burlington, IA | 03/15/2004 | 03/05/2004
54,500 | Jakel, Inc. (IL) | Highland, IL | 03/15/2004 | 03/12/2004
54,501 | AT and T Wireless Services (Wkrs) | Bothell, WA | 03/15/2004 | 03/11/2004
54,502 | Goodrich Corp. (NJ) | Englewood, NJ | 03/15/2004 | 02/26/2004
54,503 | Amesbury Group, Inc. (Wkrs) | Statesville, NC | 03/15/2004 | 02/24/2004
54,504 | SR Telecom (Wkrs) | Redmond, WA | 03/16/2004 | 03/15/2004
54,505 | Tri-star Precision (Wkrs) | Gilberts, IL | 03/16/2004 | 03/14/2004
54,506 | Sanford Pattern Works, Inc. (Wkrs) | Taylor, MI | 03/16/2004 | 03/15/2004
54,507 | Siemens Energy and Automation, Inc. (Comp) | Tucker, GA | 03/16/2004 | 03/15/2004
54,508 | Hoover-Hanes Rubber (Comp) | Tallapoosa, GA | 03/16/2004 | 03/03/2004
54,509 | Agilent Technologies (Wkrs) | Andover, MA | 03/16/2004 | 03/15/2004
54,510 | San Francisco City Lights (Wkrs) | San Francisco, CA | 03/16/2004 | 03/08/2004
54,511 | Wausau Papers of NH (Wkrs) | Graveton, NH | 03/16/2004 | 03/16/2004
54,512 | Snow River Products, LLC (Comp) | Crandon, WI | 03/16/2004 | 03/15/2004
54,513 | Finch Fabricating and Plating (Comp) | Thomasville, NC | 03/16/2004 | 03/09/2004
54,514 | Video Products Group, Inc. (Comp) | Camarillo, CA | 03/16/2004 | 03/04/2004
54,515 | Eastman Kodak Co. (Comp) | Rochester, NY | 03/16/2004 | 03/01/2004
54,516 | Scalamandre (Comp) | Long Island, NY | 03/16/2004 | 03/08/2004
54,517 | Tubafor Mill, Inc. (Wkrs) | Amanda Park, WA | 03/16/2004 | 03/15/2004
54,518 | Select Machinery Sales (Comp) | Sparta, TN | 03/16/2004 | 03/10/2004
54,519 | Gates Corporation (Comp) | Denver, CO | 03/17/2004 | 03/15/2004
54,520 | Freeport Brick (Wkrs) | Freeport, PA | 03/17/2004 | 02/18/2004
54,521 | Wil-Mort Metals (Wkrs) | Fort Payne, AL | 03/17/2004 | 03/10/2004
54,522 | Louis Berkman, LLC (WV) | Follansbee, WV | 03/17/2004 | 03/16/2004
54,523 | Camdett Corporation (NJ) | Camden, NJ | 03/17/2004 | 03/16/2004
54,524 | Straitoplane, Inc. (Comp) | Grand Rapids, MI | 03/17/2004 | 03/16/2004
54,525 | ADM (IBT) | Milwaukee, WI | 03/17/2004 | 03/16/2004
54,526 | Elder Manufacturing (Wkrs) | Dexter, MO | 03/17/2004 | 03/11/2004
54,527 | Mountain Manufacturing and Distribution (OR) | Bend, OR | 03/17/2004 | 03/16/2004
54,528 | Cerro Fabricated Products, Inc. (Comp) | Brave, PA | 03/17/2004 | 03/16/2004
54,529 | Federal Mogul Corp. (UAW) | St. Johns, MI | 03/17/2004 | 03/15/2004
54,530 | Quality Consulting and Inspection Serv. (Comp) | Deer Trail, CO | 03/18/2004 | 03/15/2004
54,531 | Bose Corporation (Comp) | Hillsdale, MI | 03/18/2004 | 03/17/2004
54,532 | G. Leblanc Corp. (Comp) | Kenosha, WI | 03/18/2004 | 03/16/2004
54,533 | Brighton Fells China (Wkrs) | Beaver Falls, PA | 03/18/2004 | 02/25/2004
54,534 | Newton Hardwoods (ME) | Madison, ME | 03/18/2004 | 03/15/2004
54,535 | Tyco Electronics Corp. (Comp) | Menlo Park, CA | 03/18/2004 | 03/05/2004
54,536 | Acorn Products Co. (Comp) | Bridgton, ME | 03/18/2004 | 03/12/2004
54,537 | RBX Industries (Wkrs) | Bedford, VA | 03/18/2004 | 03/12/2004
54,538 | Yorkshire Americas (Comp) | Greenville, SC | 03/18/2004 | 03/17/2004
54,539 | Conner Carving and Turning Co. (Comp) | Thomasville, NC | 03/18/2004 | 03/17/2004
54,540 | Cajah Corporation (Wkrs) | Hudson, NC | 03/18/2004 | 03/17/2004
54,541 | I.H.I. Turbo America (Wkrs) | Shelbyville, IL | 03/19/2004 | 03/09/2004
54,542 | Swatch Group U.S. (Wkrs) | Lancaster, PA | 03/19/2004 | 03/13/2004
54,543 | Georgia Pacific (Wkrs) | Sandusky, OH | 03/19/2004 | 03/10/2004
54,544 | Evco Plastics (NV) | Reno, NV | 03/19/2004 | 03/18/2004
54,545 | Control Tech (Comp) | Hickory, NC | 03/19/2004 | 08/08/2004
54,546 | USAA Prop and Casualty (Wkrs) | Sacramento, CA | 03/19/2004 | 02/23/2004
54,547 | Ispat Inland (Comp) | E. Chicago, IN | 03/19/2004 | 03/18/2004
54,548 | Parisi Tool (Comp) | Providence, RI | 03/19/2004 | 03/18/2004
54,549 | 3M Precision Optics (Wkrs) | Cincinnati, OH | 03/19/2004 | 03/18/2004
54,550 | Union Switch and Signal (Wkrs) | Pittsburgh, PA | 03/19/2004 | 03/17/2004
54,551 | Eureka Security Printing (Wkrs) | Jessup, PA | 03/19/2004 | 03/11/2004
54,552 | International Staple and Machine Co. (Wkrs) | Butler, PA | 03/19/2004 | 02/19/2004
54,553 | Gloval Farms Enterprises (Wkrs) | San Joaquin, CA | 03/19/2004 | 03/05/2004
54,554 | Volt Services Group (Comp) | Atlanta, GA | 03/19/2004 | 03/16/2004

Appendix
[Petitions instituted between 03/22/2004 and 03/26/2004]
TA-W | Subject firm (petitioners) | Location | Date of institution | Date of petition
54,555 | Time Square Clothing (CA) | Huntington Pk., CA | 03/22/2004 | 03/18/2004
54,556 | Paragon Glass (ME) | Lewiston, ME | 03/22/2004 | 03/18/2004
54,557 | Saia-Burgess, Inc. (Comp) | Rockville, IN | 03/22/2004 | 03/10/2004
54,558 | TRW Automotive (Comp) | Sterling Hgts., MI | 03/22/2004 | 03/15/2004
54,559 | Hammerblow Corp. (IBT) | Wausau, WI | 03/22/2004 | 03/19/2004
54,560 | E-Z-Go Textron (Comp) | Augusta, GA | 03/22/2004 | 03/19/2004
54,561 | Consolidated Screw and Machining (OR) | Gaston, OR | 03/22/2004 | 03/12/2004
54,562 | Davis Tool Engineering (MI) | Detroit, MI | 03/22/2004 | 03/22/2004
54,563 | Volt Services Group (Comp) | Houston, TX | 03/23/2004 | 03/16/2004
54,564 | Hirsh Industries (Comp) | Des Moines, IA | 03/23/2004 | 03/22/2004
54,565 | Peavey Electronics (Wkrs) | Foley, AL | 03/23/2004 | 03/15/2004
54,566 | Vantico (MN) | Los Angeles, CA | 03/23/2004 | 03/22/2004
54,567 | Artisans, Inc. (Comp) | Glen Flora, WI | 03/23/2004 | 03/19/2004
54,568 | Warnaco Intimate Apparel Div. (Comp) | Van Nuys, CA | 03/23/2004 | 03/09/2004
54,569 | Honeywell Aerospace (AZ) | Tempe, AZ | 03/23/2004 | 03/03/2004
54,570 | Imperial Home Decor Group, Inc. (Wkrs) | Knoxville, TN | 03/23/2004 | 03/16/2004
54,571 | New Era Die Company (IAMAW) | Red Lion, PA | 03/24/2004 | 03/16/2004
54,572 | General Electric Consumer Finance (Wkrs) | Canton, OH | 03/24/2004 | 03/22/2004
54,573 | TI Automotive Systems, LLC (Comp) | Warren, MI | 03/24/2004 | 03/23/2004
54,574 | Morgan Construction Co. (Wkrs) | Worchester, MA | 03/24/2004 | 03/23/2004
54,575 | Timken U.S. Corp. (Comp) | Rutherfordton, NC | 03/24/2004 | 03/19/2004
54,576 | Rogers Corp. (CT) | S. Windham, CT | 03/24/2004 | 03/12/2004
54,577 | Jan Tek Industries, LLC (NJ) | Medford, NJ | 03/24/2004 | 03/22/2004
54,578 | Motion Picture Editors Guild (CA) | Los Angeles, CA | 03/24/2004 | 03/10/2004
54,579 | Clayton Marcus Plant 1 (Wkrs) | Hickory, NC | 03/24/2004 | 03/16/2004
54,580 | Plainsman Hosiery, Inc. (Comp) | Ft. Payne, AL | 03/24/2004 | 03/15/2004
54,581 | Action West (Wkrs) | El Paso, TX | 03/24/2004 | 03/15/2004
54,582 | Missbrenner Wet Printing, Inc. (NJ) | Clifton, NJ | 03/24/2004 | 03/23/2004
54,583 | Pasadena Paper Co., LP (PACE) | Pasadena, TX | 03/24/2004 | 03/01/2004
54,584 | William M. Best Consulting Services (Comp) | Aurora, CO | 03/25/2004 | 03/24/2004
54,585 | Masterwork Electronics (CA) | Fresno, CA | 03/25/2004 | 03/24/2004
54,586 | Brothers Manufacturing, Inc. (Comp) | Hermansville, MI | 03/25/2004 | 03/22/2004
54,587 | Ness Technologies (NJ) | Hackensack, NJ | 03/25/2004 | 03/24/2004
54,588 | Velcorex, Inc./DMC (Comp) | Orangeburg, SC | 03/25/2004 | 03/18/2004
54,589 | Aqua Products, Inc. (NJ) | Cedar Grove, NJ | 03/25/2004 | 03/24/2004
54,590 | Johnson and Johnson (Wkrs) | Southington, CT | 03/25/2004 | 03/24/2004
54,591 | Palco Labs, Inc. (Comp) | Santa Cruz, CA | 03/25/2004 | 03/16/2004
54,592 | Anderson Products (Comp) | Worcester, MA | 03/25/2004 | 03/19/2004
54,593 | Meridian Healthcare Management (CA) | Woodland Hills, CA | 03/25/2004 | 03/17/2004
54,594 | XO Communications (Wkrs) | Santa Ana, CA | 03/26/2004 | 03/15/2004
54,595 | Crawford Knitting, Inc. (Comp) | Ramseur, NC | 03/26/2004 | 03/25/2004
54,596 | Mid-South Electronics, Inc. (Wkrs) | Raleigh, NC | 03/26/2004 | 03/01/2004
54,597 | Panacea Products (Wkrs) | Dallas, NC | 03/26/2004 | 03/25/2004
54,598 | Computer Science Corp. (CSC) (Wkrs) | RTP, NC | 03/26/2004 | 03/17/2004
54,599 | Forrest Consultants, Inc. (Comp) | W. Hazelton, PA | 03/26/2004 | 03/24/2004
54,600 | Measurement Specialties, Inc. (NJ) | Fairfield, NJ | 03/26/2004 | 03/26/2004
54,601 | Lear Corporation (Comp) | Auburn Hills, MI | 03/26/2004 | 03/15/2004
54,602 | Global Farms Ent., Inc. (Wkrs) | San Joaquin, CA | 03/26/2004 | 03/05/2004
54,603 | Cross Creek Apparel, LLC (Comp) | Mt. Airy, NC | 03/26/2004 | 03/16/2004
54,604 | Penn Ventilation (Comp) | Junction City, KY | 03/26/2004 | 03/17/2004
54,605 | Lithonia Lighting (Wkrs) | Decatur, GA | 03/26/2004 | 03/16/2004
54,606 | Cintas (Wkrs) | Portal, GA | 03/26/2004 | 03/15/2004
54,607 | Century Fasteners Corp. (Comp) | Richmond, KY | 03/26/2004 | 03/17/2004

[FR Doc. 04-7741 Filed 4-5-04; 8:45 am]

BILLING CODE 4510-30-M